DEPARTMENT OF ENERGY

Federal Energy Regulatory Commission

[Docket No. CP19-14-000]

Mountain Valley Pipeline, LLC; Notice of Schedule for Environmental Review of The MVP Southgate Project

On November 6, 2018, Mountain Valley Pipeline, LLC (Mountain Valley) filed an application in Docket No. CP19-14-000 requesting a Certificate of Public Convenience and Necessity pursuant to Section 7(c) of the Natural Gas Act to construct, operate, and maintain certain natural gas pipeline facilities. The proposed project is known as the MVP Southgate Project (Project) and is intended to diversify the supply and provide additional capacity of natural gas to the southeast United States by providing North Carolina and Virginia with access to natural gas supplies from the Marcellus and Utica gas regions.

On November 19, 2018, the Federal Energy Regulatory Commission (FERC or Commission) issued its Notice of Application for the Project. Among other things, that notice alerted other agencies issuing federal authorizations of the requirement to complete all necessary reviews and to reach a final decision on the request for a federal authorization within 90 days of the date of issuance of the Commission staff's final Environmental Impact Statement (EIS) for the Project. This instant notice identifies the FERC staff's planned schedule for completion of the final EIS for the Project, which is based on an issuance of the draft EIS in July 2019.

Schedule for Environmental Review

Issuance of Notice of Availability of the final EIS December 19, 2019

90-day Federal Authorization Decision Deadline March 18, 2020

If a schedule change becomes necessary for the final EIS, an additional notice will be provided so that the relevant agencies are kept informed of the Project's progress.

Project Description

Mountain Valley proposes to construct: (i) About 73 miles of new 24-inch- and 16-inch-diameter pipeline in Pittsylvania County, Virginia; and Rockingham and Alamance Counties, North Carolina; (ii) the 28,915 horsepower Lambert Compressor Station in Pittsylvania County, Virginia; and (iii) associated valves, piping, pig launching and receiving facilities, and appurtenant facilities. The proposed Project facilities commence near the City of Chatham, in Pittsylvania County and terminate at a delivery point with Public Service Company of North Carolina, Inc. near the City of Graham in Alamance County. The Project is designed to transport 375 million cubic feet per day.

Background

On May 15, 2018, the Commission staff granted Mountain Valley's request to use the FERC's pre-filing environmental review process and assigned the Project Docket No. PF18-4-000. On August 9, 2018, the Commission issued a Notice of Intent to Prepare an Environmental Impact Statement for the Planned MVP Southgate Project, Request for Comments on Environmental Issues, and Notice of Public Scoping Sessions (NOI).

The NOI was issued during the pre-filing review of the Project and was sent to federal, state, and local government agencies; elected officials; affected landowners; environmental and public interest groups; Native American tribes and regional organizations; commentors and other interested parties; and local libraries and newspapers. Major issues raised during scoping include project need, water quality degradation, environmental impacts, and private property rights and valuation. All substantive comments will be addressed in the EIS. The U.S. Army Corps of Engineers and the U.S. Fish and Wildlife Service are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-14), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 15, 2019.
Kimberly D. Bose,
Secretary.

[FR Doc. 2019-05499 Filed 3-21-19; 8:45 am]

BILLING CODE 6717-01-P